DEPARTMENT OF THE INTERIOR

Bureau of Land Management

[OR-050-1020-PG: GP2-0119]

Notice of Public Meeting, John Day/Snake Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) John Day Snake Resource Advisory Council (RAC), will meet as indicated below.

DATES: The first meeting will be held September 3, 2002 as a tour starting at the Ukiah Ranger Station, Ukiah, OR. On September 4, 2002 the RAC will meet at the Oxford Inn Suites in Pendleton, OR beginning at 8 a.m. The second meeting will be held on December 3 and 4, 2002 at the Oxford Inn Suites in Pendleton, OR, beginning at 8 a.m. both days. The public comment period will begin at approximately 1 p.m. on September 4, 2002 and December 3, 2002. All meetings will adjourn at approximately 3 p.m.

SUPPLEMENTARY INFORMATION: The 15-member Council advises the Secretary of the Interior, through the Bureau of Land Management, on a variety of planning and management issues associated with public land management in North East Oregon.

At the two meetings, topics we plan to discuss include:

Off-Highway Vehicle Subgroup—Issue ID/Field Trip

Hells Canyon, Blue Mountain and Noxious Weed Subgroups—Membership Approval/Review

Sage Grouse Subgroup—Identify statewide rep; primary & secondary members

JDS RACE/EO RAC—What affects both

National Fire Plan—Native Seeds

Agency Updates

Meeting Procedures

Winter Meetings/Information Sharing

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Virginia Gibbons at (541) 416-6700, Prineville Bureau of Land Management, 3050 NE. Third Street, Prineville, OR 97754.

Dated: August 12, 2002.
A. Barron Bail,
District Manager.

[FR Doc. 02-21052 Filed 8-19-02; 8:45 am]

BILLING CODE 4310-33-M